COMMITTEE FOR PURCHASE FROM PEOPLE WHO ARE BLIND OR SEVERELY DISABLED

Procurement List; Proposed Additions and Deletion

AGENCY: Committee for Purchase from People Who Are Blind or Severely Disabled.

ACTION: Proposed additions to and deletion from Procurement List.

SUMMARY: The Committee is proposing to add to the Procurement List services to be furnished by nonprofit agencies employing persons who are blind or have other severe disabilities, and to delete a service previously furnished by such agencies.

Comments Must Be Received on or Before: November 28, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C. 47(a) (2) and 41 CFR 51-2.3. Its purpose is to provide interested persons an opportunity to submit comments on the proposed actions.

Additions

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

End of Certification

The following services are proposed for addition to Procurement List for production by the nonprofit agencies listed:

Services

Service Type/Location: Custodial Services, E. Ross Adair Federal Building and U.S. Courthouse, 1300 S. Harrison Street, Fort Wayne, Indiana.

NPA: The Arc of Northeast Indiana, Inc., Fort Wayne, Indiana.

Contract Activity: GSA, Public Buildings Service-5P, Chicago, Illinois.

Service Type/Location: Document Destruction, Internal Revenue Service, (At the following locations for the identified Nonprofit Agencies): 101 Park Deville Drive, Columbia, Missouri, 919 Jackson Street, Chillicothe, Missouri, 3702 W. Truman Blvd, Jefferson City, Missouri.

NPA: Independence and Blue Springs Industries, Inc., Independence, Missouri, 137 S. Broadview, Cape Girardeau, Missouri, 2725 N. Westwood Blvd, Poplar Bluff, Missouri.

NPA: Cape Girardeau Community Sheltered Workshop, Inc., Cape Girardeau, Missouri, 12941 I-45 North, Houston, Texas, 8876 Gulf Freeway, Houston, Texas, 8701 South Gessner (Alliance Tower), Houston, Texas, 1919 Smith Street (G. T. “Mickey” Leland Federal Building), Houston, Texas, 350 Pine Street (Petroleum Tower), Beaumont, Texas.

NPA: Austin Task, Inc., Austin, Texas, 4050 Alpha Road, Farmers Branch, Texas, 1801 N. Hampton Road (DeSoto State Bank Building), DeSoto, Texas, 1100/1114 Commerce Street (Earle Cabell Federal Building Complex), Dallas, Texas, 2601 Meacham Blvd (FAA Building), Fort Worth, Texas, 819 Taylor Street (U.S. Federal Courthouse), Fort Worth, Texas.

NPA: Expanco, Inc., Fort Worth, Texas, 1800 NW. Loop 821 (Bank Building Office Center), Longview, Texas, 909 ESE Loop 323 (Commerce Square III), Tyler, Texas.

NPA: Goodwill Industries—Opportunities in Tyler, Tyler, Texas.

Contract Activity: IRS-Western Area Procurement Branch—APFW, San Francisco, California.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Janitorial/Custodial, DLA Gadsden Depot, Gadsden, Alabama.

NPA: None currently authorized.

Contract Activity: Defense Logistics Agency, Fort Belvoir, Virginia.

Sheryl D. Kennerly,
Director, Information Management.

[FR Doc. 04-24237 Filed 10-28-04; 8:45 am]

BILLING CODE 6353-01-P